NATIONAL ARCHIVES AND RECORDS ADMINISTRATION

[NARA-2018-012]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by January 26, 2018. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Rural Development Agency (DAA-0572-2017-0001, 10 items, 10 temporary items). Records relating to Single Family Housing Programs. Included are field activity reports, routine studies, loan application information, and financial documents for affordable housing for low income rural residents.

2. Department of Agriculture, Rural Development Agency (DAA-0572-2017-0008, 10 items, 10 temporary items). Rural Business Cooperative Service records. Included are field activity reports, routine studies, loan application information, and capital investment documents for business programs in rural areas.

3. Department of the Army, Agency-wide (DAA-AU-2015-0016, 1 item, 1 temporary item). Records related to civilian academic papers used in support of technical research projects.

4. Department of the Army, Agency-wide (DAA-AU-2016-0070, 1 item, 1 temporary item). Master files of an electronic information system used to maintain applicant and interview information.

5. Department of the Army, Agency-wide (DAA-AU-2017-0014, 1 item, 1 temporary item). Master files of an electronic information system used to maintain acquisitions information.

6. Department of Defense, Defense Threat Reduction Agency (DAA-0374-2017-0013, 1 item, 1 temporary item). Master files of an electronic information system for tracking location and condition of weapons systems.

7. Department of Defense, Office of the Secretary of Defense (DAA-0330-2016-0010, 5 items, 3 temporary items). Items related to the processing of awards recommendations. Proposed for permanent retention are awards case files.

8. Department of Health and Human Services, Office of the Secretary (DAA-0468-2018-0001, 2 items, 2 temporary items). Agency-wide policy and precedent reference files including directives case history files. Included are copies of operating procedures, staff level memoranda, documents duplicated in the official policy files, background materials on final issuances, and drafts of comments.

9. Department of Labor, Office of Workers' Compensation Programs (DAA-0271-2017-0002, 12 items, 9 temporary items). Office records common throughout the program, including program subject files, claimant's correspondence, training records, accountability review records, quarterly rehabilitation reports, administrative directives, legal and legislative files, and work measurement reports. Proposed for permanent retention are record copies of publications and studies, directives, and published studies required by law or requested by Congress.

10. Department of Transportation, Federal Highway Administration (DAA-0406-2017-0001, 2 items, 1 temporary item). Outputs of an electronic information system used to inventory all tunnels on public roads. Proposed for permanent retention are system master files.

11. Department of the Treasury, Internal Revenue Service (DAA-0058-2016-0018, 1 item, 1 temporary item). Small Business and Self-Employed Collections records to include installment agreements set up by taxpayers to pay off tax balances.

12. Department of the Treasury, Internal Revenue Service (DAA-0058-2017-0001, 1 item, 1 temporary item). Copies of records relating to tax fraud cases and documents created to review the cases.

13. Federal Maritime Commission, Office of the General Counsel (DAA-0358-2017-0006, 7 items, 7 temporary items). Records relating to routine case files and legislative affairs.

14. National Archives and Records Administration, Research Services (N2-134-17-1, 1 item, 1 temporary item). Interstate Commerce Commission (I.C.C.) Operating Division Formal Dockets, 1887—1924, other than those covering important or controversial cases containing documentation that supplements the printed decisions. These records were accessioned to the National Archives but lack sufficient historical value to warrant continued preservation.

15. Peace Corps, Office of Global Operations (DAA-0490-2017-0008, 1 item, 1 temporary item). Records of an electronic information system used to track volunteer applications, demographics, and language testing results.

Laurence Brewer,
Chief Records Officer for the U.S. Government.

[FR Doc. 2017-27804 Filed 12-26-17; 8:45 am]

BILLING CODE 7515-01-P